DEPARTMENT OF THE INTERIOR

Central Utah Project Completion Act

AGENCY: Office of the Assistant Secretary—Water and Science, Department of the Interior.

ACTION: Notice of Intent To Prepare an Environmental Impact Assessment (EA) and Public Scoping Meetings on the Lower Duchesne River Wetlands Mitigation Plan of the Bonneville Unit, Central Utah Project.

SUMMARY: Pursuant to: Section 102(2)(C) of the National Environmental Policy Act of 1969, as amended; Council on Environmental Quality Regulations at 40 CFR 1501.7 and section 315 of Public Law 102-575, Central Utah Project Completion Act (CUPCA), the joint lead agencies are initiating an environmental impact analysis, with public involvement, for the Lower Duchesne River Wetlands Mitigation Plan of the Bonneville Unit, Central Utah Project. The Mitigation Plan includes land and water acquisition, wetland construction, and land and water management alterations, for the creation and enhancement of wetland resources along the lower Duchesne River in eastern Utah. The project is intended to offset the environmental impacts to wetland resources resulting from construction and operation of the Strawberry Aqueduct and Collection System of the Bonneville Unit, Central Utah Project. Many plan features are proposed to occur on lands held in trust by the Secretary of the Interior for the benefit of the Ute Indian Tribe. The Tribe has served as the lead planning entity and the Bureau of Indian Affairs, as Trustee for the Ute Indian Tribe, will serve as a Cooperating Agency, along with the U.S. Fish and Wildlife Service and Bureau of Reclamation, in the preparation of the EA. The EA will evaluate the significant environmental impacts associated with each alternative including the No Action Alternative.

The joint lead agencies will conduct scoping meetings on the Lower Duchesne River Wetlands Mitigation Plan to give the public an opportunity to review project plans and identify the significant environmental impacts associated with the Proposed Action and each alternative. Information obtained through the scoping process will be used to identify the scope and significant issues to be analyzed in depth in the environmental document.

DATES: Three public scoping meetings will be held in the local geographic area of the project to receive input from Federal, State and local governments and agencies and the general public. The meetings will be held in:

Salt Lake City, Utah: Utah State Office, Bureau of Land Management, Conference Room, 4th Floor, 324 South State Street, Salt Lake City, Utah 84138.

Fort Duchesne, Utah: Ute Indian Tribal Headquarters Auditorium, Ft. Duchesne, Utah 84026.

Roosevelt, Utah: Conference Room, Mood Lake Electric Association, 188 West 200 North, Roosevelt, Utah 84066.

The dates and times for each meeting will be announced in local media. The deadline for submitting scoping comments will also be announced.

FOR FURTHER INFORMATION CONTACT: Additional information on matters related to this Federal Register notice can be obtained at the address and telephone number set forth below: Mr. Ralph G. Swanson, Department of the Interior, 302 East 1860 South, Provo, Utah 84606-6154, Telephone (801) 379-1254, E-mail: rswanson@uc.usbr.gov.

Dated: April 19, 2001.
Ronald Johnston,
Program Director, Department of the Interior.
Dated: April 19, 2001.
Michael Weland,
Executive Director, Utah Reclamation Mitigation and Conservation Commission.

[FR Doc. 01-10219 Filed 4-24-01; 8:45 am]

BILLING CODE 4310-RK-P